DEPARTMENT OF THE INTERIOR

Fish and Wildlife Service

[FWS-R9-IA-2009-N228 96300-1671-0000-P5]

Receipt of Applications for Permit

AGENCY: Fish and Wildlife Service, Interior.

ACTION: Notice of receipt of applications for permit.

SUMMARY: We, the U.S. Fish and Wildlife Service, invite the public to comment on the following applications for permits to conduct certain activities with endangered species. The Endangered Species Act requires that we invite public comment on these permit applications.

DATES: Written data, comments or requests must be received by November 25, 2009.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Submit your written data, comments, or requests for copies of the complete applications to the address shown in ADDRESSES.

Applicant: Fort Worth Zoo, Fort Worth, TX, PRT-220887

The applicant requests a permit to export one captive-bred female black rhinoceros (Diceros bicornis) to the Africam Safari, Puebla, Mexico, for the purpose of enhancement of the survival of the species.

Applicant: Virginia Institute of Marine Science, Gloucester Point, VA, PRT-230437

The applicant requests a permit to export and re-import non-living museum specimens of endangered and threatened species of animals previously accessioned into the applicant's collection for the purpose of scientific research. This notification covers activities to be conducted by the applicant over a 5-year period.

Applicant: Florida State University, Robert K. Godfrey Herbarium, Tallahassee, FL, PRT-230539

The applicant requests a permit to export and re-import non-living museum specimens of endangered and threatened species of plants previously accessioned into the applicant's collection for the purpose of scientific research. This notification covers activities to be conducted by the applicant over a 5-year period.

The following applicants each request a permit to import the sport-hunted trophy of one male bontebok (Damaliscus pygargus pygargus) culled from a captive herd maintained under the management program of the Republic of South Africa, for the purpose of enhancement of the survival of the species.

Applicant: Wilson W. Crook, Kingwood, TX, PRT-223348

Applicant: Sandra A. Summers, Oxford, MS, PRT-227930

Applicant: Bradford T. Black, North Canton, OH, PRT-228076

Applicant: James C. Faith, Hollidaysburg, PA, PRT-229221

Dated: October 16, 2009
Lisa J. Lierheimer
Senior Permit Biologist, Branch of Permits, Division of Management Authority

[FR Doc. E9-25637 Filed 10-23-09; 8:45 am]

BILLING CODE 4310-55-S